DEPARTMENT OF LABOR

Employment and Training Administration

[TA-W-51,103]

Toshiba America Electronic Components, Inc. Design Center, Beaverton, OR; Notice of Negative Determination Regarding Application for Reconsideration

By application of July 16, 2003, a state agency representative requested administrative reconsideration of the Department's negative determination regarding eligibility for workers and former workers of the subject firm to apply for Trade Adjustment Assistance (TAA). The denial notice applicable to workers of Toshiba America Electronic Components, Inc. Design Center, Beaverton, Oregon was signed on April 30, 2003, and published in the Federal Register on May 9, 2003 (68 FR 25060).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Toshiba America Electronic Components, Inc. Design Center, Beaverton, Oregon engaged in electronics design. The petition was denied because the petitioning workers did not produce an article within the meaning of Section 222 of the Act.

The state agency representative alleges that the services performed by the workers are essential to production and therefore the workers should be eligible to apply for TAA.

Design services do not constitute production according to the eligibility requirements for trade adjustment assistance.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 18th day of July, 2003.
Elliott S. Kushner,
Certifying Officer, Division of Trade Adjustment Assistance.

[FR Doc. 03-20113 Filed 8-6-03; 8:45 am]

BILLING CODE 4510-30-P